DEPARTMENT OF COMMERCE

National Oceanic and Atmospheric Administration

[RTID 0648-XD336]

New England Fishery Management Council; Public Meeting

AGENCY: National Marine Fisheries Service (NMFS), National Oceanic and Atmospheric Administration (NOAA), Commerce.

ACTION: Notice of public meeting.

SUMMARY: The New England Fishery Management Council (Council, NEFMC) will hold a four-day hybrid meeting with both in-person and remote participation to consider actions affecting New England fisheries in the exclusive economic zone (EEZ).

DATES: The meeting will be held on Monday, September 25, 2023 through Thursday, September 28, 2023. The meetings will begin at 12 p.m. on Monday, and 9 a.m. on Tuesday, Wednesday, and Thursday.

ADDRESSES:

Meeting address: The meeting will be held at the Hotel 1620, 180 Water Street, Plymouth, MA 02360; telephone (508) 747-4900; online at https://www.hotel1620.com. Join the webinar at https://attendee.gotowebinar.com/register/1732414043779454039.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Monday, September 25, 2023

After brief announcements, the Greater Atlantic Regional Fisheries Office (GARFO) Regional Administrator will swear in new and reappointed Council members. Then, the Council will hold its annual election of officers before receiving reports on recent activities from its Chair and Executive Director, the GARFO Regional Administrator, the Northeast Fisheries Science Center (NEFSC) Director, the NOAA Office of General Counsel, the Mid-Atlantic Fishery Management Council liaison, and representatives from the Atlantic States Marine Fisheries Commission (ASMFC), the U.S. Coast Guard, NOAA's Office of Law Enforcement, the Northeast Trawl Advisory Panel, the Northwest Atlantic Fisheries Organization (NAFO), the Stellwagen Bank National Marine Sanctuary, and the NMFS Highly Migratory Species Advisory Panel. Next, the Council will receive a presentation from GARFO on the development of a Draft Regional Equity and Environmental Justice (EEJ) Strategy. GARFO will seek Council input on EEJ engagement issues for potential inclusion in the draft strategy. This will be followed by a presentation on the preliminary Stock Assessment and Fishery Evaluation (SAFE) Report covering fishing year 2022 catches and economic trends for small-mesh multispecies (whiting). NOAA Fisheries then will provide a presentation on a procedural directive related to Section 304(f) of the Magnuson-Stevens Fishery Conservation and Management Act, which provides guidance on fishery management plan authority for stocks across more than one Council's jurisdiction. The Council will engage in a discussion on this topic. As the last item of business for the day, the Council will take up East Coast Climate Change Scenario Planning. The Council will discuss next steps and the formation of two groups to support implementation of the outcomes from the Climate Change Scenario Planning Summit.

Tuesday, September 26, 2023

The Council will begin the second day of its meeting with the Scallop Committee report, starting with a preliminary overview of 2023 scallop surveys and a progress report on Framework Adjustment 38 to the Atlantic Sea Scallop Fishery Management Plan (FMP). The framework includes 2024 fishery specifications, 2025 default specifications, and other measures. The Council also will approve the Scallop Survey Working Group's guiding principles. The Northeast Fisheries Science Center will be up next with an overview of NEFSC fishery independent surveys. The presentation will cover: (1) past survey performance; (2) 2023 survey season issues; (3) survey contingency plans; and (4) future scheduling for the NOAA Ship Henry B. Bigelow bottom trawl surveys and R/V Hugh R. Sharp scallop surveys. The Council will receive input from the Northeast Trawl Advisory Panel and engage in a question-and-answer session on the NEFSC fishery independent survey overview.

After the lunch break, the Council will discuss an action related to the Northern Edge of Georges Bank. The Council will receive an initial presentation on draft alternatives to potentially authorize scallop fishery access to the Habitat Management Area on the Northern Edge and offer suggestions for revisions to the draft alternatives. The Habitat Committee report will follow with two items: (1) a progress report on the Essential Fish Habitat (EFH) Review, which is being conducted to revise the EFH components of the Council's fishery management plans; and (2) an update on regional offshore wind activities and other habitat-related work. The Northeast Fisheries Science Center then will provide a presentation on the peer-reviewed results of the June 2023 Management Track Stock Assessments for Atlantic deep-sea red crab, longfin inshore squid, bluefish, scup, and summer flounder. The Council will discuss Atlantic deep-sea red crab next to address specifications for the 2024-2027 fishing years. The Council will hear the Scientific and Statistical Committee's (SSC) recommendations on overfishing limits (OFLs) and acceptable biological catches (ABCs) for the fishery and then take final action on the specifications. At the conclusion of this discussion, the Council will adjourn for the day.

Wednesday, September 27, 2023

The Council will lead off the third day of its meeting by receiving a presentation on the peer-reviewed results of the 2023 Atlantic Cod Research Track Assessment, which will be followed by a question-and-answer opportunity. The U.S. Co-Chair of the Transboundary Resources Assessment Committee (TRAC) then will provide a presentation on the 2023 assessment results and related updates for Eastern Georges Bank cod, Eastern Georges Bank haddock, and Georges Bank yellowtail flounder. The Scientific and Statistical Committee Chair will provide the SSC's recommendations on OFLs and ABCs for Georges Bank yellowtail flounder for fishing years 2024 and 2025. The Council then will review and approve the Transboundary Management Guidance Committee's recommendations for 2024-2025 total allowable catches (TACs) for shared U.S./Canada resources on Georges Bank. Next, the Council will receive the SSC's recommendations on OFLs and ABCs for: (1) Gulf of Maine haddock for fishing years 2024 and 2025; and (2) white hake for fishing years 2024 and 2025, along with feedback on the white hake rebuilding plan options. Part 1 of the Groundfish Committee report will follow. The Council will receive a progress report on Framework Adjustment 66 to the Northeast Multispecies (Groundfish) FMP, which includes (1) 2024-2025 TACs for U.S./Canada shared resources on Georges Bank; (2) 2024-2025 specifications for Georges Bank yellowtail flounder, white hake, and Gulf of Maine haddock; (3) 2024-2026 specifications for redfish, northern windowpane, and southern windowpane; (4) a revised white hake rebuilding plan; (5) Atlantic halibut issues; and (6) extending removal of the sector management uncertainty buffer for white hake and Gulf of Maine haddock until the next specifications cycle.

Following the lunch break, the Council will take up Part 2 of the Groundfish Committee report, which will cover two items. First will be a presentation on a recent facilitated meeting to revise groundfish ABC control rules. Any revisions will be made through Framework Adjustment 68 to the Groundfish FMP. Second, the Council will receive an update on the Atlantic Cod Management Transition Plan. The Council then will review and discuss recommended changes to its Risk Policy as identified in Terms of Reference 1 and 2, including potential revisions to the goals and objectives. The Council also will discuss how revisions to the groundfish ABC control rules may relate to the Risk Policy Working Group's directive. Next, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf.

As the last order of business for the day, the Council will receive a brief overview of NOAA's Draft Technical Guidance for National Standard 1 Reference Points and Status Determinations. This will include SSC input and an opportunity for Council comments.

Thursday, September 28, 2023

The Council will lead off the fourth day of its meeting with the Atlantic Herring Committee report. The Council will receive a progress report on work to revisit the vacated Inshore Midwater Trawl Restricted Area that was part of Amendment 8 to the Atlantic Herring FMP. The Council potentially may initiate a framework adjustment to develop alternatives to minimize user conflicts for Atlantic herring. GARFO's Protected Resources Division then will provide a brief recap of the timeline for implementing Atlantic Large Whale Take Reduction Plan (ALWTRP) modifications. The On-Demand Fishing Gear Conflict Working Group then will provide an update on recent activities. The Council will approve the working group's terms of reference. Next, the Council will receive an update on a joint New England/Mid-Atlantic Council action to reduce monkfish and dogfish large-mesh gillnet fishery interactions with Atlantic sturgeon. The Council will implement the monkfish changes through Framework Adjustment 15 to the Monkfish FMP. The Council also will receive a presentation on recommendations to improve the Monkfish Research Set-Aside (RSA) Program's effectiveness. The Council will discuss and approve these RSA recommendations.

Following the lunch break, The Council will receive an update on Framework Adjustment 12 to the Northeast Skate Complex FMP, which proposes 2024-2025 fishery specifications and measures to expand the possession of smooth and barndoor skates. The Council then will take up the Ecosystem-Based Fishery Management (EBFM) Committee report and discuss next steps in using the EBFM prototype management strategy evaluation (pMSE) final report to engage stakeholders in potential 2024 deep-dive workshops about EBFM. Finally, the Council will hold its initial discussion on 2024 Council Priorities before closing out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: September 1, 2023.
Rey Israel Marquez,
Acting Deputy Director, Office of Sustainable Fisheries, National Marine Fisheries Service.

[FR Doc. 2023-19317 Filed 9-6-23; 8:45 am]

BILLING CODE 3510-22-P